DEPARTMENT OF COMMERCE

National Oceanic and Atmospheric Administration (NOAA) Science Advisory Board (SAB)

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Tuesday, July 20, 2010, from 8:30 a.m. to 5:30 p.m. and Wednesday, July 21, 2010, from 8:30 a.m. to 2:45 p.m. These times and the agenda topics described below are subject to change. Please refer to the Web page http://www.sab.noaa.gov/Meetings/meetings.html for the most up-to-date meeting agenda.

Place: The meeting will be held both days at the John and Mable Ringling Museum of Art, 5401 Bay Shore Road, Education/Conservation Bldg., Room 1003-1004, Sarasota, Florida, Phone: 941-359-5700. Please check the SAB Web site http://www.sab.noaa.gov for confirmation of the venue and for directions.

Status: The meeting will be open to public participation with a 30-minute public comment period on July 21 at 2:15 p.m. (check Web site to confirm time). The SAB expects that public statements presented at its meetings will not be repetitive of previously submitted verbal or written statements. In general, each individual or group making a verbal presentation will be limited to a total time of five (5) minutes. Written comments should be received in the SAB Executive Director's Office by July 13, 2010 to provide sufficient time for SAB review. Written comments received by the SAB Executive Director after July 13, 2010, will be distributed to the SAB, but may not be reviewed prior to the meeting date. Seats will be available on a first-come, first-served basis.

Matters To Be Considered: The meeting will include the following topics: (1) NOAA activities in response to the Deep Water Horizon Oil Spill in the Gulf of Mexico; (2) Grand Scientific Challenges: Results From the NOAA Science Workshop; (3) NOAA Strategic Energy Review; (4) SAB discussion on its comments to the NOAA Next Generation Strategic Plan; (5) SAB discussion on the current and future operation of its working groups; (6) Regional response to an ecological disaster-integrating Federal, State, academia and NGO science capabilities within a regional framework; (8) Strategies for Regional Coastal and Marine Spatial Planning—engaging other Federal and State partners, with the Gulf of Mexico as an example; (9) Regional Engagement in the Gulf of Mexico—applying regional education, outreach and extension capabilities around a unified science message; (10) Updates from SAB Standing Working Groups.

FOR FURTHER INFORMATION CONTACT: Dr. Cynthia Decker, Executive Director, Science Advisory Board, NOAA, Rm. 11230, 1315 East-West Highway, Silver Spring, Maryland 20910. Phone: 301-734-1156, Fax: 301-713-1459, E-mail: Cynthia.Decker@noaa.gov; or visit the NOAA SAB Web site at http://www.sab.noaa.gov.

Dated: June 25, 2010.
Mark E. Brown,
Chief Financial Officer, Office of Oceanic and Atmospheric Research, National Oceanic and Atmospheric Administration.

[FR Doc. 2010-16071 Filed 6-30-10; 8:45 am]

BILLING CODE 3510-KD-P